DEPARTMENT OF TRANSPORTATION

Federal Aviation Administration

14 CFR Part 71

[Docket No. FAA-2017-0109; Airspace Docket No. 16-ASO-13]

Amendment of VOR Federal Airways V-7 and V-67; TN

AGENCY: Federal Aviation Administration (FAA), DOT.

ACTION: Final rule.

SUMMARY: This action modifies VOR Federal airways V-7 and V-67, in the eastern United States due to the planned decommissioning of the Graham, TN, VORTAC navigation aid.

DATES: Effective date 0901, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the eastern United States to maintain the efficient flow of air traffic.

History

On March 6, 2017, the FAA published in the Federal Register a notice of proposed rulemaking (NPRM) to amend V-7 and V-67, in the eastern United States due to the planned decommissioning of the Graham, TN, VORTAC navigation aid (82 FR 12522), Docket No. FAA-2017-0109. Interested parties were invited to participate in this rulemaking effort by submitting written comments on the proposal. Three comments were received.

Discussion of Comments

The Aircraft Owners and Pilots Association (AOPA) wrote that, for those VOR NAVAIDs that are to be decommissioned and for those airways that are correspondingly removed, the FAA should create an RNAV waypoint at the previous NAVAID location and retain all fixes and intersections along that route by amending their definition to that of an RNAV waypoint. The impacted air traffic control facilities conducted a thorough review of their operations in the areas affected by the route changes to determine which fixes and intersections along the route segments being removed were necessary for continuing to support the facilities' operations and for navigation purposes through the area. As a result, the VALER fix is the only fix being retained to supplement the existing adjacent fixes, waypoints, and navigation aids in the areas that the V-7 and V-67 route segments are being removed. Additionally, the Graham VORTAC is currently functioning as a Distance Measuring Equipment (DME) only facility and is planned to be retained and charted as a DME facility with the “GHM” three-letter identifier. The change will be reflected in all appropriate publications and procedures prior to decommissioning the Graham VORTAC. Consequently, the FAA does not plan to replace the Graham VORTAC or fixes along the removed route segments with RNAV waypoints.

One commenter noted that V-124, which is also linked to the Graham VORTAC, is not addressed in this action. V-124 is being amended through a separate action for the decommissioning of the Jacks Creek, TN, VOR/DME. On June 7, 2017, the Jacks Creek final rule was published in the Federal Register (82 FR 26336), Docket No. 16-ASO-12. That rule amends V-124 by eliminating the route segments from Gilmore, AR, through Jacks Creek, TN, to Graham, TN. The effective date of the V-124 change is August 17, 2017.

A third comment noted concern about the length of the gaps in the amended airways V-7 and V-67. However, as the commenter admitted, this is a non-issue since 14 CFR 91.205(d)(2) requires that aircraft conducting IFR flight be equipped with navigation equipment suitable for the route to be flown. Additionally, the commenter called the route changes an important step toward implementation of the NextGen program.

Domestic VOR Federal airways are published in paragraph 6010(a) of FAA Order 7400.11A dated August 3, 2016, and effective September 15, 2016, which is incorporated by reference in 14 CFR 71.1. The VOR Federal airways listed in this document will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends Title 14, Code of Federal Regulations (14 CFR) part 71 by modifying the descriptions of VOR Federal airways V-7, and V-67, due to the planned decommissioning of the Graham, TN, VORTAC. The route changes are described below.

V-7: V-7 extends between Dolphin, FL, and Sawyer, MI. This rule removes the Graham, TN, VORTAC from the route which creates a gap in the route between Muscle Shoals, AL, and Central City, KY. Therefore, the amended route extends between Dolphin, FL, and Muscle Shoals, AL, as currently described; then between Central City, KY, and Sawyer, MI, as currently described.

V-67: V-67 extends between the Choo Choo, TN, VORTAC and the Rochester, MN, VOR/DME. This rule removes the Graham, TN, VORTAC from the route which creates a gap in the route between Shelbyville, TN, and Cunningham, KY. Therefore, the amended route extends between Choo Choo, TN, and Shelbyville, TN, as currently described; then between Cunningham, KY, and Rochester, MN, as currently described. This action also corrects the state location for the Choo Choo VORTAC to reflect Tennessee.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule does not have a significant economic impact on a substantial number of small entities under the criteria of the Regulatory Flexibility Act.

Environmental Review

The FAA has determined that this action of modifying the descriptions of VOR Federal airways V-7, and V-67, due to the planned decommissioning of the Graham, TN, VORTAC. qualifies for categorical exclusion under the National Environmental Policy Act and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a)—Domestic VOR Federal Airways

* * * * *

V-7 [Amended]

From Dolphin, FL; INT Dolphin 299° and Lee County, FL, 120° radials; Lee County; Lakeland, FL; Cross City, FL; Seminole, FL; Wiregrass, AL; INT Wiregrass 333° and Montgomery, AL, 129° radials; Montgomery; Vulcan, AL; to Muscle Shoals, AL. From Central City, KY; Pocket City, IN; INT Pocket City 016° and Terre Haute, IN, 191° radials; Terre Haute; Boiler, IN; Chicago Heights, IL; INT Chicago Heights 358° and Falls, WI, 170° radials; Falls; Green Bay, WI; Menominee, MI; to Sawyer, MI. The airspace below 2,000 feet MSL outside the United States is excluded. The portion outside the United States has no upper limit.

V-67 [Amended]

From Choo Choo, TN; to Shelbyville, TN. From Cunningham, KY; Marion, IL; Centralia, IL; INT Centralia 010° and Vandalia, IL, 162° radials; Vandalia; Spinner, IL; Burlington, IA; Iowa City, IA; Cedar Rapids, IA; Waterloo, IA; to Rochester, MN.

* * * * *

Issued in Washington, DC, on August 14, 2017.
Rodger A. Dean, Jr.,
Manager, Airspace Policy Group.

[FR Doc. 2017-17508 Filed 8-18-17; 8:45 am]

BILLING CODE 4910-13-P